DEPARTMENT OF LABOR

Pension and Welfare Benefits Administration

Proposed Extension of Information Collection; Comment Request; Prohibited Transaction Exemption 90-1

ACTION: Notice.

SUMMARY: The Department of Labor (the Department), as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This helps to ensure that requested data can be provided in the desired format, reporting burden (time and financial resources) is minimized, collection instruments are clearly understood, and the impact of collection requirements on respondents can be properly assessed.

Currently, the Pension and Welfare Benefits Administration is soliciting comments concerning the extension of the information collection requests (ICR) incorporated in Prohibited Transaction Class Exemption 90-1, involving insurance company pooled separate accounts. A copy of the ICR may be obtained by contacting the office listed in the addresses section of this notice.

DATES: Written comments must be submitted to the office shown in the addresses section below on or before March 27, 2000.

ADDRESSES: Gerald B. Lindrew, Office of Policy and Research, U.S. Department of Labor, Pension and Welfare Benefits Administration, 200 Constitution Avenue, NW, Room N-5647, Washington, D.C. 20210. Telephone: (202) 219-4782; Fax: (202) 219-4745. These are not toll-free numbers.

SUPPLEMENTARY INFORMATION:

I. Background

Prohibited Transaction Class Exemption 90-1 provides an exemption from certain provisions of the Employee Retirement Income Security Act of 1974 (ERISA) for certain transactions involving insurance company pooled separate accounts in which employee benefit plans participate and which are otherwise prohibited by ERISA. Specifically, the exemption allows persons who are parties in interest of a plan that invests in a pooled separate account to engage in transactions with the separate account if the plan's participation in the separate account does not exceed specified limits. In order to ensure that the exemption is not abused, that the rights of participants and beneficiaries are protected, and that certain conditions are met, the Department requires that records regarding the exempted transaction be maintained for six years.

II. Desired Focus of Comments

The Department is particularly interested in comments which

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This exemption provides individuals or entities which are parties in interest to a plan that invests in an insurance company pooled separate account with the ability to engage in transactions with the separate account and to avoid potential hardships and possible fiduciary liability under ERISA. For the Department to grant an exemption, however, plan participants and beneficiaries must be protected. The Department therefore included certain exemption conditions, one of which requires that records of a transaction between the party in interest to a plan and the insurance company pooled separate account be kept by the insurance company for six years from the date of the transaction. The majority of this recordkeeping is considered to be usual business practice in the insurance industry. Without this ICR, the Department would be unable to effectively enforce the terms of the exemption, insure user compliance, and protect the interests of participants and beneficiaries.

Type of Review: Extension of currently approved collections of information.

Agency: Pension and Welfare Benefits Administration.

Title: Prohibited Transaction Exemption 90-1—Pooled Separate Accounts.

OMB Number: 1210-0083.

Recordkeeping: Six years.

Affected Public: Individuals or households; Business or other for-profit; Not-for-profit institutions.

Total Respondents: 128.

Average Time per Response: 5 minutes.

Estimated Total Burden Hours: 11 hours.

This notice requests comments on the extension of the ICR included in Prohibited Transaction Class Exemption 90-1. The Department is not proposing or implementing changes to the existing ICR at this time. Comments received in response to this notice will be summarized and/or incorporated in the submission to OMB for continued clearance of the ICR; they will also become a matter of public record.

Dated: January 20, 2000.
Gerald B. Lindrew,
Deputy Director, Office of Policy and Research, Pension and Welfare Benefits Administration.

[FR Doc. 00-1782 Filed 1-25-00; 8:45 am]

BILLING CODE 4510-29-M